DEPARTMENT OF THE INTERIOR

Bureau of Land Management

[ES-020-1310-E1]

Notice of Intent To Prepare Planning Analysis/Environmental Assessments

AGENCY: Bureau of Land Management (BLM), Interior.

ACTION: Notice of Intent to Prepare a Planning Analysis/Environmental Assessment.

SUMMARY: The Jackson Field Offices, Eastern States will prepare a Planning Analysis/Environmental Assessment (PA/EA), in cooperation with the U.S. Army Corps of Engineers to consider leasing Federal mineral estate for oil and gas exploration and development. The lands, managed by the U.S. Army Corps of Engineers, are located in the Blue Mountain Lake Project Area in Logan and Yell Counties, Arkansas. This notice is issued pursuant to Title 40 Code of Federal Regulations (CFR) 1501.7 and Title 43 CFR 1610.2(c). The planning effort will follow the procedures set forth in Title 43 CFR part 1600. The public is invited to participate in this planning process, beginning with the identification of planning issues and criteria.

DATES: Comments relating to the identification of planning issues and criteria will be accepted for thirty days from the date of this publication. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

ADDRESSES: Send comments to: Bureau of Land Management, Jackson Field Office; 411 Briarwood Drive, Suite 404; Jackson, MS 39206.

FOR FURTHER INFORMATION CONTACT: Clay Moore, Lead for PA/EA Jackson Field Office, (601-977-5400).

SUPPLEMENTARY INFORMATION: The BLM has responsibility to consider nominations to lease Federal mineral estate oil and gas exploration and development. An interdisciplinary team will be used in the preparation of the PA/EA. Preliminary issues, subject to change as a result of public input, are (1) potential impacts of oil and gas exploration and development on the surface resources and uses by the Corps of Engineers and (2) consideration of restriction on lease rights to protect surface resources and uses by the Corps of Engineers. The lands are located in the below listed townships/sections in Logan and Yell Counties, Arkansas. Total acreage being addressed is approximately 17,000 acres.

T5N, R25W, 5th Meridian

Sections 2, 7-11, 15-20

T5N, R26W, 5th Meridian

Sections 1-19, 24, 27, 28 330

T5N, R27W, 5th Meridian

Sections 1-4, 9-19, 24-26

T5N, R26W, 5th Meridian

Sections 29, 31, 32

T6 N, R.27W, 5th Meridian

Sections 25, 34-36

Due to the limited scope of this PA/EA process, public meetings are not scheduled.

Sid Vogelpohl,
Acting Field Manager, Jackson Field Office.

[FR Doc. 01-31749 Filed 12-26-01; 8:45 am]

BILLING CODE 4310-GJ-M